DEPARTMENT OF THE TREASURY

Internal Revenue Service

26 CFR Parts 1, 20 and 25

[TD 9448]

RIN 1545-BH96; RIN 1545-BI56

Use of Actuarial Tables in Valuing Annuities, Interests for Life or Terms of Years, and Remainder or Reversionary Interests; Correction

AGENCY: Internal Revenue Service (IRS), Treasury.

ACTION: Correction to final and temporary regulations.

SUMMARY: This document contains a correction to final and temporary regulations (TD 9448, that were published in the Federal Register on Thursday, May 7, 2009 (74 FR 21438). This regulation relates to the use of actuarial tables in valuing annuities, interests for life or terms of years, and remainder or reversionary interests.

DATES: This correction is effective on June 8, 2009 and is applicable beginning May 1, 2009.

FOR FURTHER INFORMATION CONTACT: Mayer R. Samuels, (202) 622-3090 (not a toll-free number).

SUPPLEMENTARY INFORMATION:

Background

The final and temporary regulations (TD 9448) that are the subject of this correction is under section 2031of the Internal Revenue Code.

Need for Correction

As published, TD 9448 contains errors that may prove to be misleading and is in need of clarification.

Correction of Publication

Accordingly, the publication of the final and temporary regulations (TD 9448), that were the subject of FR Doc. E9-10111, is corrected as follows:

1. On page 21439, in the preamble under the paragraph heading “Background”, in the table “CROSS REFERENCE TO REGULATION SECTIONS”, the fourth column under section 2031, the third line, the language “Table S (5/1/99-05/01/99) and Life” is corrected to read “Table S (5/1/99-04/30/09) and Life”.

2. On page 21439, in the preamble under the paragraph heading, “Transitional Rules”, in the first column, nine lines from the bottom, the language, “on or after May 7, 2009, and before July” is corrected to read “on or after May 1, 2009, and before July”.

Treena V. Garrett,
Federal Register Liaison, Publications and Regulations Branch, Legal Processing Division, Associate Chief Counsel, Procedure and Administration.

[FR Doc. E9-13242 Filed 6-5-09; 8:45 am]

BILLING CODE 4830-01-P